DEPARTMENT OF TRANSPORTATION

Federal Aviation Administration

Notice of Intent To Rule on Application To Impose and Use the Revenue From a Passenger Facility Charge (PFC) at Grand Canyon West Airport, Peach Springs, AZ

AGENCY: Federal Aviation Administration (FAA), DOT.

ACTION: Notice of intent to rule on application.

SUMMARY: The FAA proposes to rule and invites public comment on the application to impose and use the revenue from a PFC at Grand Canyon West Airport under the provision of the 49 U.S.C. 40117 and Part 158 of the Federal Aviation Regulations (14 CFR part 158).

DATES: Comments must be received on or before May 7, 2004.

ADDRESSES: Comments on this application may be mailed or delivered in triplicate to the FAA at the following address: Federal Aviation Administration, Airports Division, 15000 Aviation Blvd., Lawndale, CA 90261.

In addition, one copy of any comments submitted to the FAA must be mailed or delivered to Mr. Rory Majenty, Project Manager, Hualapai Indian Tribe, at the following address: Grand Canyon West Airport, P.O. Box 359, Peach Springs, Arizona 86434. Air carriers and foreign air carriers may submit copies of written comments previously provided to the Hualapai Indian Tribe under section 158.23 of part 158.

FOR FURTHER INFORMATION CONTACT: Mickael Agaibi, Arizona Standards Section Supervisor, Airports Division, 15000 Aviation Boulevard, Room 3024, Lawndale, CA 90261, telephone: (310) 725-3611. The application may be reviewed in person at this same location.

SUPPLEMENTARY INFORMATION: The FAA proposes to rule and invites public comment on the application to impose and use the revenue from a PFC at Grand Canyon West Airport under the provisions of the 49 U.S.C. 40117 and part 158 of the Federal Aviation Regulations (14 CFR part 158). On March 12, 2004, the FAA determined that the application to impose and use the revenue from a PFC submitted by the Hualapai Indian Tribe was substantially complete within the requirements of section 158.25 of part 158. The FAA will approve or disapprove the application, in whole or in part, no later than June 16, 2004.

The following is a brief overview of the impose and use application No. 04-01-C-00-1G4:

Level of Proposed PFC: $3.00.

Proposed Charge Effective Date: June 1, 2004.

Proposed Charge Expiration Date: June 1, 2006.

Total Estimated PFC Revenue: $308,210.

Brief description of the proposed projects: Design and construct parallel taxiway and associated connector taxiways; design and construct aircraft-parking apron; design and construct access road; design and reconstruct the primary runway; and design new terminal building including utilities.

Class or Classes of Air Carriers Which the Public Agency Has Requested Not Be Required To Collect PFCs: None.

Any person may inspect the application in person at the FAA office listed above under FOR FURTHER INFORMATION CONTACT and at the FAA Regional Airports Division located at: Federal Aviation Administration, Airports Division, 15000 Aviation Blvd., Room 3024, Lawndale, CA 90261. In addition, any person may, upon request, inspect the application, notice and other documents germane to the application in person at the Hualapai Indian Tribe.

Issued in Lawndale, California, on March 12, 2004.
Mia Paredes Ratcliff,
Acting Manager, Airports Division, Western-Pacific Region.

[FR Doc. 04-7881 Filed 4-6-04; 8:45 am]

BILLING CODE 4910-13-M